DEPARTMENT OF DEFENSE

Office of the Secretary

[Docket ID: DoD-2024-HA-0004]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by July 26, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372—7574, whs.mc-alex.esd.mbx.dd-dod-information-collections@mail.mil.

SUPPLEMENTARY INFORMATION:

Title; Associated Form; and OMB Number: Women's Reproductive Health Care Provider Survey (WRHCPS); OMB Control Number 0720-WRHS.

Type of Request: New.

Number of Respondents: 2,129.

Responses per respondent: 1.

Annual Responses: 2,129.

Average Burden per Response: 20 minutes.

Annual Burden Hours: 710.

Needs and Uses: Health care provider knowledge, beliefs, and practices may have an impact on active-duty service women's (ADSW) access to contraception and overall reproductive health. The proposed survey is devised to be a sufficiently large and representative sample of the diverse professionals who provide reproductive and contraceptive care to ADSW at health care visits (e.g., readiness visits, pre-deployment, and during deployment). The survey will be designed to capture provider self-reported beliefs, clinical knowledge on reproductive health care (including contraceptive counseling) and prescribing and providing contraception care for and during deployment. Data and analysis from the survey will enable DoD to evaluate, enhance, and where needed, improve reproductive services delivery and educational interventions; provide a strong basis for planning policy and services related to ADSWs reproductive and contraceptive health; and provide data, programs, and details necessary for replication and peer review. In addition, the proposed one-time survey meets a Congressional mandate and serves as an appropriate follow-up to the WRHS by determining whether identified gaps in contraceptive access are the result of provider knowledge and attitudes. The 116-48 SASC Report for FY2020 required DoD to conduct a survey to better understand provider knowledge and beliefs related to provision of contraceptives to ADSW. The target population of the survey includes uniformed (active component only) and civilian MHS personnel.

Affected Public: Federal government employees.

Frequency: On occasion.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas. at whs.mc-alex.esd.mbx.dd-dod-information-collections@mail.mil.

Dated: June 20, 2024.
Aaron T. Siegel,
Alternate OSD Federal Register Liaison Officer, Department of Defense.

[FR Doc. 2024-14017 Filed 6-25-24; 8:45 am]

BILLING CODE 6001-FR-P